DEPARTMENT OF ENERGY

Federal Energy Regulatory Commission

Combined Notice Of Filings

Take notice that the Commission has received the following Natural Gas Pipeline Rate and Refund Report filings:

Filings Instituting Proceedings

Docket Numbers: RP14-374-000.

Applicants: East Cheyenne Gas Storage, LLC.

Description: ECGS Compliance Filing GT&C Section 34 (Non-Conforming Agreements) to be effective 1/5/2014.

Filed Date: 1/17/14.

Accession Number: 20140117-5265.

Comments Due: 5 p.m. ET 1/29/14.

Docket Numbers: RP14-375-000.

Applicants: Cheyenne Plains Gas Pipeline Company, L.

Description: Negotiated Rate Non-Conforming TSA Updates to be effective 1/18/2014.

Filed Date: 1/17/14.

Accession Number: 20140117-5308.

Comments Due: 5 p.m. ET 1/29/14.

Docket Numbers: RP14-376-000.

Applicants: Natural Gas Pipeline Company of America.

Description: Removal of Expired/Expiring Agreements to be effective 2/21/2014.

Filed Date: 1/21/14.

Accession Number: 20140121-5019.

Comments Due: 5 p.m. ET 2/3/14.

Docket Numbers: RP14-377-000.

Applicants: Iroquois Gas Transmission System, L.P.

Description: 01/21/14 Negotiated Rates—Sequent Energy Management (HUB) 3075-89 to be effective 1/18/2014.

Filed Date: 1/22/14.

Accession Number: 20140122-5003.

Comments Due: 5 p.m. ET 2/3/14.

Docket Numbers: RP14-378-000.

Applicants: Texas Eastern Transmission, LP.

Description: Negotiated Rate for NJNG Contract 910230 to be effective 11/1/2014.

Filed Date: 1/22/14.

Accession Number: 20140122-5012.

Comments Due: 5 p.m. ET 2/3/14.

Docket Numbers: RP14-379-000.

Applicants: Texas Eastern Transmission, LP.

Description: Modifications to Pro Forma Exhibits A and C to be effective 4/1/2014.

Filed Date: 1/22/14.

Accession Number: 20140122-5029.

Comments Due: 5 p.m. ET 2/3/14.

Docket Numbers: RP14-380-000.

Applicants: National Fuel Gas Supply Corporation,Empire Pipeline, Inc.

Description: Petition of National Fuel Gas Supply Corporation and Empire Pipeline, Inc. for Limited Waiver of Order No. 787.

Filed Date: 1/21/14.

Accession Number: 20140121-5241.

Comments Due: 5 p.m. ET 2/3/14.

Docket Numbers: RP14-381-000.

Applicants: Transcontinental Gas Pipe Line Company.

Description: DPEs-NESL to be effective 2/22/20140.

Filed Date: 1/22/14.

Accession Number: 20140122-5064.

Comments Due: 5 p.m. ET 2/3/14.

Docket Numbers: RP14-382-000.

Applicants: Iroquois Gas Transmission System, L.P.

Description: 01/22/14 Negotiated Rates—Trafigura AG (HUB) 7445-89 to be effective 1/18/2014.

Filed Date: 1/22/14.

Accession Number: 20140122-5143.

Comments Due: 5 p.m. ET 2/3/14.

Docket Numbers: RP14-383-000.

Applicants: Iroquois Gas Transmission System, L.P.

Description: 01/22/14 Negotiated Rates—JP Morgan Ventures Energy Corp (HUB) 6025-89 to be effective 1/18/2014.

Filed Date: 1/22/14.

Accession Number: 20140122-5153.

Comments Due: 5 p.m. ET 2/3/14.

Docket Numbers: RP14-384-000.

Applicants: Iroquois Gas Transmission System, L.P.

Description: 01/22/14 Negotiated Rates—United Energy Trading, LLC (RTS) 5095-22 to be effective 1/18/2014.

Filed Date: 1/22/14.

Accession Number: 20140122-5183.

Comments Due: 5 p.m. ET 2/3/14.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

Filings in Existing Proceedings

Docket Numbers: RP13-1041-001.

Applicants: Iroquois Gas Transmission System, L.P.

Description: 01/22/14 Reservation Charge Credit to be effective 1/1/2014.

Filed Date: 1/22/14.

Accession Number: 20140122-5169.

Comments Due: 5 p.m. ET 2/3/14.

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 23, 2014.
Nathaniel J. Davis, Sr.,
Deputy Secretary.

[FR Doc. 2014-02055 Filed 1-30-14; 8:45 am]

BILLING CODE 6717-01-P